DEPARTMENT OF AGRICULTURE

Rural Telephone Bank

Sunshine Act; Meetings

AGENCY: Rural Telephone Bank, USDA.

ACTION: Staff Briefing for the Board of Directors.

TIME AND DATE: 2 p.m., Wednesday, May 10, 2006.

PLACE: Conference Room 104-A, Jamie L. Whitten Federal Building, U.S. Department of Agriculture, 12th & Jefferson Drive, SW., Washington, DC.

STATUS: Open.

MATTERS TO BE DISCUSSED: 1. Progress of dissolution of the Bank.

2. Administrative and other issues.

ACTION: Board of Directors Meeting.

TIME AND DATE: 9 a.m., Thursday, May 11, 2006.

PLACE: Conference Room 104-A, Jamie L. Whitten Federal Building, U.S. Department of Agriculture, 12th & Jefferson Drive, SW., Washington, DC.

STATUS: Open.

MATTERS TO BE CONSIDERED: The following matters have been placed on the agenda for the Board of Directors meeting:

1. Call to order.

2. Action on Minutes of the February 23, 2006, board meeting.

3. Secretary's Report.

4. Treasurer's Report.

5. Update on dissolution of the Bank.

6. Adjournment.

CONTACT PERSON FOR MORE INFORMATION: Jonathan Claffey, Acting Assistant Governor, Rural Telephone Bank, (202) 720-9554.

Dated: April 26, 2006.
James M. Andrew,
Governor, Rural Telephone Bank.

[FR Doc. 06-4152 Filed 4-28-06; 11:59 am]

BILLING CODE 3410-15-P